DEPARTMENT OF ENERGY

Federal Energy Regulatory Commission

[Project No. 2333-094]

Rumford Falls Hydro, LLC; Notice of Application Tendered for Filing With the Commission and Establishing Procedural Schedule for Licensing and Deadline for Submission of Final Amendments

Take notice that the following hydroelectric application has been filed with the Commission and is available for public inspection.

a. Type of Application: New Major License.

b. Project No.: 2333-094.

c. Date Filed: September 29, 2022.

d. Applicant: Rumford Falls Hydro LLC.

e. Name of Project: Rumford Falls Hydroelectric Project.

f. Location: On the Androscoggin River in the Town of Rumford, Oxford County, Maine.

g. Filed Pursuant to: Federal Power Act, 16 U.S.C. 791(a)-825(r).

h. Applicant Contact: Mr. Luke Anderson, Rumford Falls Hydro LLC, Brookfield Renewable, 150 Main St., Lewiston, Maine, 04240, (207) 755-5613, luke.anderson@brookfieldrenewable.com.

i. FERC Contact: Ryan Hansen at (202) 502-8074 or email at ryan.hansen@ferc.gov.

j. The application is not ready for environmental analysis at this time.

k. Project Description: The project consists of two developments: the Upper Station and Lower Station. The Upper Station Development consists of the following existing facilities: (1) a concrete gravity dam with a 464-foot-long, 37-foot-high ogee type spillway section with 32-inch-high, pin-supported wooden flashboards; (2) a reservoir with a storage capacity of 2,900 acre-feet and a surface area of approximately 419 acres at a maximum headwater elevation of 601.24 feet; (3) a 2,300-foot-long, 150-foot-wide forebay; (4) a gatehouse containing two headgates for each of the four penstocks for a total of eight headgates with trashracks; (5) four 110-foot-long underground steel-plate penstocks, three of which are 12 feet in diameter, and one of which is 13 feet in diameter; (6) a masonry powerhouse integral with the dam that is composed of two adjoing stations(a) a 30-foot-wide, 110-foot-long, 92-foot-high Old Station, containing one horizontal generating unit with a capacity of 4,300 kilowatts (kW), and (b) a 60-foot-wide, 140-foot-long, 76-foot-high New Station containing three vertical generating units, two with a capacity of 8,100 kW each, and one with a capacity of 8,800 kW; (7) four 11.5-kilovolt (kV) overhead transmission lines, two of which are de-energized, and the other two are: a 4,500-foot-long line 2 and a 4,200-foot-long line 3; and (8) appurtenant facilities.

The Lower Station Development consists of the following existing facilities: (1) a rock-filled, wooden cribbed and concrete-capped Middle Dam, with a 328.6-foot-long, 20-foot-high gravity spillway section with a crest elevation of 502.74 feet with 16-inch-high, pin-supported, wooden flashboards; (2) a reservoir with storage capacity of 141 acre-feet and a surface area of 21 acres at a normal maximum headwater elevation of 502.7 feet; (3) a 120-foot-long concrete headgate structure located adjacent to the dam with ten steel headgates and a waste weir section perpendicular to the headgate structure with a crest elevation of 502.6 feet and 10-inch-high flashboards regulating flow to the Middle Canal; (4) a 2,400-foot-long Middle Canal with a width ranging from 75 to 175 feet and a depth from 8 to 11 feet; (5) a gatehouse containing two headgates, trashracks, and other appurtenant equipment regulating flow from the canal into two penstocks; (6) two 815-foot-long, 12-foot-diameter, steel-plate penstocks conveying flow from the gatehouse to two surge tanks; (7) two 36-foot-diameter, 50.5-foot-high cylindrical surge tanks; (8) two 77-foot-long, 12-foot-diameter steel penstocks conveying flow from the surge tanks to the powerhouse; (9) a masonry powerhouse containing two identical vertical units, each with a 7,600-kW capacity; (10) two 600-foot-long, 11.5-kV parallel generator leads; and (11) appurtenant facilities.

Rumford Falls Hydro LLC operates the project in a run-of-river mode and does not propose any changes to project facilities or operation. The project would continue to generate an estimated average of 270,800 megawatt-hours annually.

l. Location of the Application: In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2333). For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | October 2022.
Issue Additional Information Request (if necessary) | November 2022.
Notice of Acceptance/Notice of Ready for Environmental Analysis | March 2023.
Filing of recommendations, preliminary terms and conditions, and fishway prescriptions | May 2023.

o. Final amendments to the application must be filed with the Commission no later than 30 days from the issuance date of the notice of ready for environmental analysis.

Dated: October 13, 2022.
Kimberly D. Bose,
Secretary.

[FR Doc. 2022-22771 Filed 10-19-22; 8:45 am]

BILLING CODE 6717-01-P